FEDERAL MARITIME COMMISSION

Notice of Agreement(s) Filed

The Commission hereby gives notice of the filing of the following agreement(s) under the Shipping Act of 1984. Interested parties can review or obtain copies of agreements at the Washington, DC offices of the Commission, 800 North Capitol Street, NW, Room 940. Interested parties may submit comments on an agreement to the Secretary, Federal Maritime Commission, Washington, DC 20573, within 10 days of the date this notice appears in the Federal Register.

Agreement No.: 011715.

Title: IMC/Colombia Express Space Charter and Sailing Agreement.

Parties: Industrial Maritime Carriers (U.S.A.) Inc. Colombia Express, L.L.C.

Synopsis: The proposed Agreement would permit the parties to charter space to one another and to coordinate their vessel services in the trade between United States Gulf ports, and inland U.S. points via such ports, and ports in Colombia and inland points via such ports.

By Order of the Federal Maritime Commission.
Dated: June 30, 2000.
Bryant L. VanBrakle,
Secretary.

[FR Doc. 00-17059 Filed 7-5-00; 8:45 am]

BILLING CODE 6730-01-P